DEPARTMENT OF STATE

[Public Notice: 9621]

Foreign Terrorist Organization Designation of al-Qa'ida in the Indian Subcontinent, Also Known as al-Qaeda in the Indian Subcontinent, Also Known as Qaedat al-Jihad in the Indian Subcontinent as a Specially Designated Global Terrorist

Based upon a review of the Administrative Record assembled in this matter, and in consultation with the Attorney General and the Secretary of the Treasury, I conclude that there is a sufficient factual basis to find that the relevant circumstances described in section 219 of the Immigration and Nationality Act, as amended (hereinafter “INA”) (8 U.S.C. 1189), exist with respect to al-Qa'ida in the Indian Subcontinent, also known as al-Qaeda in the Indian Subcontinent, also known as Qaedat al-Jihad in the Indian Subcontinent.

Therefore, I hereby designate the aforementioned organization and its aliases as a foreign terrorist organization pursuant to section 219 of the INA.

This determination shall be published in the Federal Register.

Dated: June 10, 2016.
John F. Kerry,
Secretary of State.

[FR Doc. 2016-15680 Filed 6-30-16; 8:45 am]

BILLING CODE 4710-AD-P